DEPARTMENT OF LABOR

Employee Benefits Security Administration

Hearing on Reasonable Contracts or Arrangements Under Section 408(b)(2)—Fee Disclosure

AGENCY: Employee Benefits Security Administration, U.S. Department of Labor.

ACTION: Notice of change to public hearing date.

SUMMARY: Notice is hereby given that the U.S. Department of Labor (the Department) is changing the date for the previously scheduled public hearing on the proposed regulation under section 408(b)(2) of the Employee Retirement Income Security Act of 1974 (ERISA) and the related proposed class exemption. The notice that originally scheduled the public hearing for March 20, 2008, and March 21 (if necessary) was published in the Federal Register on February 27, 2008, at 73 FR 10405.

DATES: The hearing will now be held on March 31, 2008, and April 1 (if necessary), beginning at 9 a.m., EST.

ADDRESSES: The hearing will be held at the U.S. Department of Labor, Room S-4215 A-C, 200 Constitution Avenue, NW., Washington, DC 20210.

FOR FURTHER INFORMATION CONTACT: Fil Williams, Office of Regulations and Interpretations, Employee Benefits Security Administration, (202) 693-8510. This is not a toll-free number.

SUPPLEMENTARY INFORMATION: Persons interested in presenting testimony and answering questions at this public hearing must submit, by 3:30 p.m., EST, March 20, 2008, the following information: (1) A written request to be heard; and (2) An outline of the topics to be discussed, indicating the time allocated to each topic. To facilitate the receipt and processing of responses, EBSA encourages interested persons to submit their requests and outlines electronically by e-mail to e-ORI@dol.gov. Persons submitting requests and outlines electronically are encouraged not to submit paper copies. Persons submitting requests and outlines on paper should send or deliver their requests and outlines to the Office of Regulations and Interpretations, Employee Benefits Security Administration, Attn: 408(b)(2) Hearing, Rooms N-5655, U.S. Department of Labor, 200 Constitution Avenue, NW., Washington, DC 20210. All requests and outlines submitted to the Department will be available to the public, without charge, online at http://www.dol.gov/ebsa and at the Public Disclosure Room, N-1513, Employee Benefits Security Administration, U.S. Department of Labor, 200 Constitution Avenue, NW., Washington, DC 20210.

Note: Persons who requested the opportunity to testify at the March 20, 2008 hearing will be rescheduled for this hearing, unless the Department hears otherwise from the requestor. A new request to testify is not required by such persons.

The Department will prepare an agenda indicating the order of presentation of oral comments and testimony. In the absence of special circumstances, each presenter will be allotted ten (10) minutes in which to complete his or her presentation.

Any individuals with disabilities who may need special accommodations should notify Fil Williams on or before March 20, 2008.

Information about the agenda will be posted on http://www.dol.gov/ebsa on or after March 20, 2008, or may be obtained by contacting Fil Williams, Office of Regulations and Interpretations, Employee Benefits Security Administration, U.S. Department of Labor, telephone (202) 693-8510 (this is not a toll-free number).

Those individuals who make oral comments and testimonies at the hearing should be prepared to answer questions regarding their information and/or comments. The hearing will be transcribed.

Notice of Re-Scheduled Public Hearing

Notice is hereby given that the public hearing on the Department's proposed regulation under section 408(b)(2) of ERISA, and related proposed class exemption, has been re-scheduled for March 31, 2008, and April 1, if necessary. The hearing will be held beginning at 9 a.m. in Room S-4215 A-C of the U.S. Department of Labor, Francis Perkins Building, 200 Constitution Avenue, NW., Washington DC, 20210.

Signed at Washington, DC, this 5th day of March, 2008.
Bradford P. Campbell,
Assistant Secretary, Employee Benefits Security Administration, U.S. Department of Labor.

[FR Doc. E8-4658 Filed 3-10-08; 8:45 am]

BILLING CODE 4510-29-P